DEPARTMENT OF TRANSPORTATION

Federal Aviation Administration

Approval of Noise Compatibility Program, Melbourne International Airport, Melbourne, FL

AGENCY: Federal Aviation Administration, DOT.

ACTION: Notice.

SUMMARY: The Federal Aviation Administration (FAA) announces its findings on the Noise Compatibility Program submitted by the Melbourne Airport Authority (MAA) under the Aviation Safety and Noise Abatement Act, hereinafter referred to as “the Act.” These findings are made in recognition of the description of Federal and nonfederal responsibilities in Senate Report No. 96-52 (1980). On December 12, 2016, the FAA determined that the noise exposure maps submitted by the MAA under Part 150 were in compliance with applicable requirements. On April 25, 2017, the FAA approved the Melbourne International Airport (MLB) noise compatibility program. All of the recommendations of the program were approved. No program elements relating to new or revised flight procedures for noise abatement were proposed by the airport operator.

DATES: The effective date of the FAA's approval of the MLB Noise Compatibility Program is April 25, 2017.

FOR FURTHER INFORMATION CONTACT: Allan Nagy, Federal Aviation Administration, Orlando Airports District Office, 5950 Hazeltine National Drive, Suite 400, Orlando, FL 32822, phone number: (407) 812-6331. Documents reflecting this FAA action may be reviewed at this same location.

SUPPLEMENTARY INFORMATION: This notice announces that the FAA has given its overall approval to the Noise Compatibility Program for MLB, effective April 25, 2017.

Under Section 47504 of the Act, an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Title 14 Code of Federal Regulations (CFR) part 150 is a local program, not a Federal Program. The FAA does not substitute its judgment for that of the airport operator with respect to which measure should be recommended for action. The FAA's approval or disapproval of 14 CFR part 150 program recommendations is measured according to the standards expressed in 14 CFR part 150 and the Act, and is limited to the following determinations:

a. The Noise Compatibility Program was developed in accordance with the provisions and procedures of 14 CFR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport Noise Compatibility Program are delineated in 14 CFR part 150, Section 150.5. Approval is not a determination concerning the acceptability of land uses under Federal, state, or local law. Approval does not by itself constitute an FAA implementing action. A request for Federal action or approval to implement specific noise compatibility measures may be required, and an FAA decision on the request may require environmental review of the proposed action. Approval does not constitute a commitment by the FAA to financially assist in the implementation of the program nor a determination that all measures covered by the program are eligible for grant-in-aid funding from the FAA. Where Federal funding is sought, requests for project grants must be submitted to the FAA Airports District Office in Orlando, FL.

The MAA submitted to the FAA on September 9, 2016, the Noise Exposure Maps, descriptions, and other documentation produced during the noise compatibility planning Study conducted from October 2012 through September 9, 2016. The MLB Noise Exposure Maps were determined by FAA to be in compliance with applicable requirements on December 1, 2016. Notice of this determination was published in the Federal Register on December 12, 2016.

The MLB Study contains a proposed Noise Compatibility Program comprised of actions designed for phased implementation by airport management and adjacent jurisdictions from the years 2016 to 2021. It was requested that FAA evaluate and approve this material as a Noise Compatibility Program as described in Section 47504 of the Act. The FAA began its review of the Program on December 1, 2016, and was required by a provisions of the Act to approve or disapprove the program within 180-days (other than the use of new or modified flight procedures for noise control). Failure to approve or disapprove such program within the 180-day period shall be deemed to be an approval of such program.

The submitted program contained seven (7) proposed actions for noise mitigation on the airport. The FAA completed its review and determined that the procedural and substantive requirements of the Act and 14 CFR part 150 have been satisfied. The overall program, therefore, was approved by the FAA effective April 25, 2017.

Outright approval was granted for the five (5) specific program elements that require FAA Action. No FAA Action is required for the remaining two (2) program elements which may be implemented by the MAA outside of the Part 150 Process. The FAA Approved elements consist of: Element AM-1, Noise Compatibility Program Management: This element recommends the MAA Airport Manager manage the implementation of the Noise Compatibility Program (NCP Section 12.1.1); Element AM-2, Community Involvement: This element recommends that the MAA continues accepting noise complaints via phone and email and that the MAA creates a Web page on noise abatement that can be accessed from the main Airport Web page (NCP Section 12.1.2); Element AM-3, Airport Noise Abatement Signage: This element recommends that the MAA purchases and installs noise abatement reminder signs at the ends of each runway to raise pilot awareness of noise sensitive land uses in proximity to the airport (NCP Section 12.1.3); Element AM-4, Develop a Jeppesen-style Insert on Noise Abatement Programs at MLB: This element recommends that the MAA voluntarily work with MLB ATCT, flight schools, and the FAA to publish Jeppesen-style pilot handouts notifying pilots of the noise abatement measures in place at MLB for better pilot awareness and compliance with the NCP's recommended noise abatement measures (NCP Section 12.1.4); Element AM-5, Noise Program Update: This element recommends that MAA staff should continue to routinely examine operating characteristics of MAA to determine if significant changes have occurred that would require an update to the most recent FAA approved Noise Exposure Maps (NCP Section 12.1.5).

These determinations are set forth in detail in a Record of Approval (ROA) signed by the FAA on April 25, 2017. The ROA, as well as other evaluation materials and the documents comprising the submittal, are available for review at the FAA office listed above and at the administrative office of the Melbourne Airport Authority. The ROA will also be available on-line at: http://www.faa.gov/airports_airtraffic/airports/environmental/airport_noise/part_150/states/.

Issued in Orlando, FL, on May 8, 2017.
Rebecca R. Henry,
Acting Manager, Orlando Airports District Office.

[FR Doc. 2017-09902 Filed 5-16-17; 8:45 am]

BILLING CODE 4910-13-P